DEPARTMENT OF HEALTH AND HUMAN SERVICES

Agency for Healthcare Research and Quality

Meetings on Patient Safety and Quality Improvement

AGENCY: Agency for Healthcare Research and Quality (AHRQ), HHS.

ACTION: Notice of public meetings, including telephone call-in.

SUMMARY: We are considering how to implement the Patient Safety and Quality Improvement Act of 2005 (Act), including such questions as how the Act might be applied to various organizational configurations and how best to ensure that the statute's fundamental confidentiality objectives are achieved. To help us better understand the thinking and plans of providers that are interested in seeking out patient safety organization (PSO) services, and of entities that anticipate establishing such an organization, this notice invites the public to provide information that may assist the Agency, either in person or by telephone call-in, at three related public meetings.

DATES: The three public meetings will be held on Wednesday, March 8, 2006; Monday, March 13, 2006; and Thursday, March 16, 2006. Each meeting will be held from 12:30 p.m. EST until finished (no later than 3:30 p.m. EST).

ADDRESSES: The meetings on March 8 and 13 will be held at AHRQ, John M. Eisenberg Building, 540 Gaither Road, Rockville, MD 20850. The meeting on March 16 will be held at Hilton Washington Embassy Row, 2015 Massachusetts Ave. NW., Washington, DC 20036.

FOR FURTHER INFORMATION CONTACT: Eileen Hogan, Agency for Healthcare Research and Quality, 540 Gaither Road, Rockville, MD 20850; Telephone: 301-427-1307; E-mail: Eileen.Hogan@ahrq.hhs.gov.

SUPPLEMENTARY INFORMATION: The Act is intended to help health care providers improve patient safety, reduce the incidence of events that adversely effect patient safety, and otherwise improve the quality of health care delivery. More specifically, the Act, by establishing a Federal privilege and mandating confidentiality protection, encourages health care providers to contract with PSOs to collect and analyze data on patient safety events (including “near misses,” “close calls,” and “no-harm” events as well as other types of patient safety events), to develop and disseminate information to improve patient safety, and to provide feedback and assistance to reduce patient risk. The decision to contract with a PSO is voluntary.

Registration and Other Information About the Meetings

We request that interested persons register with the Cygnus Corporation on the Internet at http://www.cygnusc.com/ to participate in one or more meetings either in person or by telephone. The contact at Cygnus Corporation is Megan Griggs who can be reached by telephone at (301) 231-7537, ext. 260 and by e-mail at griggsm@cygnus.com. Interested persons should register at least the day before a meeting in which they wish to participate. Non-registered individuals will be able to attend a meeting in person if space is available. However, we will not be able to provide a telephone hook-up for those that do not register at least the day before the meeting.

If sign language interpretation or other reasonable accommodation for a disability is needed, please contact Mr. Donald L. Inniss, Director, Office of Equal Employment Opportunity Program Support Center, on (301) 443-1144.

Each public meeting is scheduled for a three-hour period, but will end sooner if participants have finished providing input before the time period expires. We are asking for input concerning specific topics as follows:

March 8, 2006: Provider—PSO relationships, contracts, and disclosures. March 13, 2006: Operation of a component PSO (a PSO that is part of another organization). March 16, 2006: Security and Confidentiality issues.

We request that input regarding the specified topics be provided at the meeting scheduled for that topic. After those who wish to provide input on the specific topics have finished, participants will be welcome to provide input on other issues regarding the implementation of the Act. The format for the meetings is intended to allow participants not only to provide input, but also to respond to the input provided by others. We especially request input from entities interested in becoming or creating PSOs and from providers interested in contracting with PSOs.

To help interested individuals prepare for the meetings, we invite review of the Act. The full text is set forth on the Internet at: http://www.gpoaccess.gov/plaws/ (search for “Public Law 109—41.”)

Also, we will establish an e-mail notification list to provide interested parties with automatic notification of relevant information posted on the AHRQ Web site (http://www.ahrq.gov) concerning the PSO program. To be added to the e-mail notification list, send your e-mail address to Eileen.Hogan@ahrq.hhs.gov and use the words “Add me to the list” in the subject line.

These meetings will be primarily listening sessions for the Agency and potentially an opportunity for dialogue among participants. We believe that the input received at the public meetings will be most helpful in providing the Agency with background information, fostering fact finding, and broadening awareness of issues raised by the legislation. We generally will not respond to the presentations during the meetings and will not regard them as formal comments that must be addressed in later rulemaking documents.

Dated: February 17, 2006.
Carolyn M. Clancy,
Director.

[FR Doc. 06-1725 Filed 2-23-06; 8:45 am]

BILLING CODE 4160-90-M